DEPARTMENT OF THE INTERIOR

Notice of Availability of the Wisconsin Proposed Resource Management Plan Amendment/Environmental Assessment

AGENCY: Bureau of Land Management, Milwaukee Field Office, DOI.

ACTION: Notice of availability.

SUMMARY: Notice is hereby given that the Bureau of Land Management (BLM), Milwaukee Field Office, has released a Proposed Resource Management Plan Amendment (RMPA) and Environmental Assessment (EA), to assess the future disposition of 12 public domain parcels in the State of Wisconsin. The parcels are located in Bayfield, Door, Langlade, Oneida, Vilas, and Waupaca Counties. Four of the tracts contain historic lighthouses declared excess by the U.S. Coast Guard and the remaining parcels are small, isolated tracts located in northern Wisconsin.

The planning effort has followed the procedures set forth in 43 CFR, Subpart 1600. The EA has been prepared under 40 CFR 1500, et seq.

The public has 30 days in which to protest the proposed plan in accordance with 43 CFR 1610.5-2. Any person who participated in the planning process and has an interest which is or may be adversely affected by the implementation of the plan may file a protest with the Director, BLM at the address below. All protests must be postmarked within 30 days from the date of publication of this notice. There is no provision in the law that allows extensions to this protest period.

All protests must be accompanied by a statement of reasons why BLM's findings are in error or based on faulty or insufficient analysis.

DATES: The protest period commences with the publication of this notice. Comments must be postmarked no later than September 13, 2000.

ADDRESSES: All protests must be mailed to the following address: Director, Bureau of Land Management, Attention: Ms. Brenda Williams, Protests Coordinator, WO-210/LS-1075, Department of the Interior, Washington, DC 20240 or by overnight mail address to: Director, Bureau of Land Management, Attention: Ms. Brenda Williams, Protests Coordinator (WO-210), 1620 L Street, N.W., Room 1075, Washington, D.C. 20036. Protests sent to the Milwaukee Field Office or Eastern States Office will not be considered properly filed and may be rejected for not being timely-filed.

FOR FURTHER INFORMATION CONTACT: Howard Levine, Planning and Environmental Coordinator, telephone at (414) 297-4463, or by electronic mail at Howard_Levine@es.blm.gov.

SUPPLEMENTARY INFORMATION: The Proposed RMPA/EA contains three alternatives: (1) Transfer of the parcels to other Federal, State or local agencies, non-profit groups, Native American Tribes or private land owners; (2) no action, in which BLM would retain the tracts and manage them on a custodial basis; and (3) retention by BLM which would actively manage the properties under multiple use and sustained yield principles.

The Proposed RMPA identifies disposal criteria that will be consulted if Alternative 1 is chosen and when BLM reviews site-specific proposals to acquire the properties. The criteria serve two purposes. First, they prescribe the management and resource objectives for each property based on the planning issues developed during the scoping period. Second, the criteria establish the procedures, such as consultations or studies, that must be completed prior to transfer of any tract. These consultations and studies, coupled with specific development proposals, will be used to analyze environmental impacts for the properties.

Complete records of all phases of the planning process will be available at the Milwaukee Field Office and are available upon request.

Dated: August 7, 2000.
James W. Dryden,
Milwaukee Field Manager.

[FR Doc. 00-20397 Filed 8-11-00; 8:45 am]

BILLING CODE 4310-PN-P